DEPARTMENT OF AGRICULTURE

Forest Service

Notice of New Fee Site; Federal Lands Recreation Enhancement Act, (Title VIII, Pub. L. 108-447)

AGENCY: Flathead National Forest, USDA Forest Service.

ACTION: Notice of New Fee Site.

SUMMARY: The Flathead National Forest proposes to begin charging fees ranging between $65-$135 for the overnight rental of Wurtz Cabin and a $200-$300 fee for group use of Wurtz Cabin. Rentals of other cabins on the Flathead National Forest have shown that publics appreciate and enjoy the availability of historic rental cabins. Funds from the rental will be used for the continued operation and maintenance of Wurtz Cabin.

DATES: Wurtz Cabin will become available for rent June, 2006. Comments, concerns or questions about this new fee must be submitted by February 21, 2006.

ADDRESSES: Submit comments, concerns or questions about the new fee associated with the Wurtz Cabin rental to: Forest Supervisor, Flathead National Forest, 1935 3rd Avenue East, Kalispell, MT 59901.

FOR FURTHER INFORMATION CONTACT: Paula K. Peterson, Resource Assistant, 406-387-3818.

SUPPLEMENTARY INFORMATION: The Federal Recreation Lands Enhancement Act (Title VII, Pub. L. 108-447) directed the Secretary of Agriculture to publish a six-month advance notice in the Federal Register whenever new recreation fee areas are established.

The intent of this notice is to give publics an opportunity to comment if they have concerns or questions about new fees.

The Flathead National Forest currently has ten other cabin rentals. These rentals are often fully booked throughout their rental season. A business analysis of Wurtz Cabin has shown that people desire having this sort of recreation experience on the Flathead National Forest. A market analysis indicates that the nightly and group use fees are both reasonable and acceptable for this sort of unique recreation experience.

People wanting to rent Wurtz Cabin will need to do so through the National Recreation Reservation Service, at http://www.reserveusa.com or by calling 1-877-444-6777. The National Recreation Reservation Service charges a $9 fee for reservations.

Dated: January 12, 2006.
Cathy Barbouletos,
Flathead National Forest Supervisor.

[FR Doc. 06-508 Filed 1-19-06; 8:45 am]

BILLING CODE 3410-11-M